DEPARTMENT OF THE INTERIOR

Bureau of Land Management

[CA-190-05-1610-DT]

Notice of Availability of Record of Decision for the Clear Creek Management Area Resource Management Plan Amendment and Route Designations

AGENCY: Bureau of Land Management, Interior.

ACTION: Notice of availability of record of decision.

SUMMARY: In accordance with the National Environmental Policy Act of 1969, the Federal Land Policy and Management Act of 1976, and the Bureau of Land Management (BLM) management policies, the BLM announces the availability of the Record of Decision (ROD) for the Clear Creek Management Area (CCMA) Resource Management Plan Amendment (RMPA) and Route Designations. CCMA is located in San Benito and western Fresno counties in California. In accordance with BLM regulations, 43 Code of Federal Regulation 1610.5-2(b), all protests to the Director on planning decisions were resolved prior to approving the ROD. The decision of the Director is the final decision for land use planning decisions of the Department of the Interior. The ROD was signed on January 13, 2006 and was effective immediately.

ADDRESSES: Copies of the ROD are available upon request from the Hollister Field Office, Bureau of Land Management, 20 Hamilton Court Hollister, CA 95023 or e-mail, George_Hill@ca.blm.gov. An electronic copy of the ROD is also available on-line at http://www.ca.blm.gov/hollister.

FOR FURTHER INFORMATION CONTACT: George Hill, Hollister Field Office Manager, Address: 20 Hamilton Court, Hollister, CA 95023, Telephone: (831) 630-5000 E-mail address: George_Hill@ca.blm.gov.

SUPPLEMENTARY INFORMATION: The CCMA ROD/Approved RMPA was developed with broad public participation through a three year collaborative planning process. The CCMA ROD and RMPA address BLM management on approximately 63,000 acres of public land in the planning area. The CCMA ROD/Approved RMPA is designed to achieve or maintain desired future conditions developed through the planning process. It includes a series of management actions to meet the desired resource conditions for recreation resources, watershed resources, and special status species. The CCMA ROD/Approved RMPA is essentially the same as the proposed action in the CCMA Proposed Resource Management Plan/Final Environmental Impact Statement (PRMP/FEIS), published in September 2005. BLM received eleven protests to the PRMP/FEIS. No inconsistencies with State or local plans, policies, or programs were identified during the Governor's consistency review of the PRMP/FEIS. As a result, only minor modifications were made in preparing the CCMA ROD and Approved RMPA. These modifications corrected errors that were noted during review of the PRMP/FEIS and provide further clarification for some of the decisions. The CCMA ROD includes a section titled “Changes to the Proposed RMP Amendment” that identifies the location of the corrections in the Clear Creek Management Area Record of Decision and Approved Resource Management Plan Amendment.

Dated: December 30, 2005.
J. Anthony Danna,
Deputy State Director, Resources.

[FR Doc. E6-2425 Filed 2-21-06; 8:45 am]

BILLING CODE 4310-40-P